DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: West Coast Region U.S. Pacific Highly Migratory Species Hook and Line Logbook.

OMB Control Number: 0648-0223.

Form Number(s): NOAA 88-197.

Type of Request: Regular (extension of a currently approved information collection).

Number of Respondents: 850.

Average Hours per Response: One hour.

Burden Hours: 3,400.

Needs and Uses: This request is for extension of a currently approved collection.

Under the Fishery Management Plan for United States (U.S.) West Coast Fisheries for Highly Migratory Species (HMS FMP) U.S. fishermen, participating in the Pacific Hook and Line fishery (also known as the albacore troll and pole-and-line fishery), are required to obtain a Highly Migratory Species (HMS) permit. Permit holders are required to complete and submit logbooks documenting their daily fishing activities, including catch and effort for each fishing trip. Logbook forms must be completed within 24 hours of the completion of each fishing day and submitted to the Southwest Fisheries Science Center (SWFSC) within 30 days of the end of each trip. These data and associated analyses help the SWFSC provide fisheries information to researchers and the needed management advice to the U.S. in its negotiations with foreign fishing nations exploiting HMS.

Affected Public: Business or other for-profit organizations.

Frequency: For each fishing trip.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Dated: February 8, 2018.
Sarah Brabson,
NOAA PRA Clearance Officer.

[FR Doc. 2018-02947 Filed 2-13-18; 8:45 am]

BILLING CODE 3510-22-P